INTERNATIONAL TRADE COMMISSION

[Investigation No. 337-TA-967]

Certain Document Cameras and Software for Use Therewith; Issuance of a Limited Exclusion Order and Cease and Desist Order Against the Respondent Found in Default; Termination of the Investigation

AGENCY: U.S. International Trade Commission.

ACTION: Notice.

SUMMARY: Notice is hereby given that the U.S. International Trade Commission has issued a limited exclusion order denying entry of certain document cameras and software for use therewith and a cease and desist order against QOMO HiteVision, LLC (“QOMO”). The investigation is terminated.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 24, 2015, based on a complaint filed on behalf of Pathway Innovations & Technologies, Inc. of San Diego, California (“Complainant”). 80 FR 57642 (September 24, 2015). The complaint alleges violations of Section 337 of the Tariff Act of 1930, as amended, 19 U.S.C. 1337, in the sale for importation, importation, or sale within the United States after importation of certain document cameras and software for use therewith by reason of infringement of certain claims of U.S. Design Patent No. D647,906; U.S. Design Patent No. D674,389; U.S. Design Patent No. D715,300; and U.S. Patent No. 8,508,751 (“the '751 patent”). The Commission's notice of investigation named the following respondents: Recordex USA, Inc., of Long Island City, New York (“Recordex”); QOMO of Wixom, Michigan; and Adesso, Inc. of Walnut, California (“Adesso”). The Office of Unfair Import Investigations was named as a party but has subsequently withdrawn from the investigation. Adesso was terminated based on a consent order stipulation and consent order. Order No. 5 (unreviewed) (Nov. 23, 2015). QOMO was found to be in default. Order No. 10 (unreviewed) (Dec. 7, 2015). Recordex was terminated based on settlement. Order No. 19 (unreviewed) (May 13, 2016).

On December 7, 2015, the Commission determined not to review an initial determination finding QOMO in default and later requested briefing from the parties and the public on the issues of remedy, the public interest, and bonding. Complainant filed a submission requesting a limited exclusion order (“LEO”) and a cease and desist order (“CDO”) against QOMO, and arguing that none of the public interest factors weighs against granting the LEO and CDO. Complainant requested that QOMO not be afforded the opportunity to import during the period of Presidential review, or in the alternative, that the bond be set at 100 percent of entered value in accordance with the Commission practice for defaulting respondents.

The Commission finds that the statutory requirements for relief under section 337(g)(1), (19 U.S.C. 1337(g)(1)) are met with respect to QOMO. In addition the Commission finds that the public interest factors enumerated in section 337(g)(1) do not preclude issuance of the statutory relief.

The Commission has determined that the appropriate remedy in this investigation is (1) an LEO prohibiting the unlicensed entry of certain document cameras and software for use therewith that are manufactured abroad by or on behalf of, or imported by or on behalf of, QOMO that infringe one or more of claims 1-10, 12-18, and 20 of the '751 patent; and (2) a CDO prohibiting QOMO from importing, selling, marketing, advertising, distributing, transferring (except for exportation), and soliciting United States agents or distributors for certain document cameras and software for use therewith that infringe one or more of claims 1-10, 12-18, and 20 of the '751 patent.

Finally, the Commission has determined that the bond during the period of Presidential review pursuant to 19 U.S.C. 1337(j) shall be in the amount of 100 percent of the entered value of the imported articles that are subject to the LEO or CDO. The Commission's orders were delivered to the President and to the United States Trade Representative on the day of their issuance.

The authority for the Commission's determination is contained in section 337 of the Tariff Act of 1930, as amended (19 U.S.C. 1337), and in Part 210 of the Commission's Rules of Practice and Procedure (19 CFR part 210).

By order of the Commission.
Issued: August 5, 2016.
Lisa R. Barton,
Secretary to the Commission.

[FR Doc. 2016-19037 Filed 8-10-16; 8:45 am]

BILLING CODE 7020-02-P